DEPARTMENT OF HOMELAND SECURITY

Federal Emergency Management Agency

[Docket ID FEMA-2012-0020; OMB No. 1660-0009]

Agency Information Collection Activities: Proposed Collection; Comment Request, The Declaration Process: Requests for Preliminary Damage Assessment (PDA), Requests for Supplemental Federal Disaster Assistance, Appeals, and Requests for Cost Share Adjustments

AGENCY: Federal Emergency Management Agency, DHS.

ACTION: Notice.

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning The Declaration Process: Requests for Preliminary Damage Assessment (PDA), Requests for Supplemental Federal Disaster Assistance, Appeals, and Requests for Cost Share Adjustments. This collection allows states to request a major disaster or emergency declaration.

DATES: Comments must be submitted on or before October 9, 2012.

ADDRESSES: To avoid duplicate submissions to the docket, please use only one of the following means to submit comments:

(1) Online. Submit comments at www.regulations.gov under Docket ID FEMA-2012-0020. Follow the instructions for submitting comments.

(2) Mail. Submit written comments to Docket Manager, Office of Chief Counsel, DHS/FEMA, 500 C Street SW., Room 835, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Peggy Miller, Branch Chief, Declarations Unit, Federal Emergency Management Agency at (202) 646-3886 or Peggy.Miller@fema.dhs.gov for additional information. You may contact the Records Management Division for copies of the proposed collection of information at facsimile number (202) 646-3347 or email address: FEMA-Information-Collections-Management@dhs.gov.

SUPPLEMENTARY INFORMATION: Under Sections 401 and 501 of the Richard T. Stafford Disaster Relief and Emergency Assistance Act (Stafford Act) (42 U.S.C. 5170 and 5190), if a State is impacted by an event of the severity and magnitude that is beyond its response capabilities, the State Governor may seek a declaration by the President that a major disaster or emergency exists. Any major disaster or emergency request must be submitted through FEMA, which evaluates the request and makes a recommendation to the President about what response action to take. If the major disaster or emergency declaration request is granted, the State may be eligible to receive assistance under 42 U.S.C. 5170a-5170c; 5172-5186; 5189c-5189d; and 5192. A State may appeal denials of a major disaster or emergency declaration request for determinations under section 44 CFR 206.46 and seek an adjustment to the cost share percentage under section 44 CFR 206.47.

On May 16, 2012, FEMA published in the Federal Register at 77 FR 28615, an emergency collection change notice for its newly implemented FEMA Form 010-0-13, Request for Presidential Disaster Declaration Major Disaster or Emergency form. The form was approved and went into effect on June 20, 1012. FEMA subsequently received a comment in response to this form and is taking it into account for this collection renewal to ensure instructions regarding completion of FEMA Form 010-0-13 are clear and easily understood.

Collection of Information

Title: The Declaration Process: Requests for Preliminary Damage Assessment (PDA), Requests for Supplemental Federal Disaster Assistance, Appeals, and Requests for Cost Share Adjustments.

Type of Information Collection: Extension, without change, of a currently approved information collection.

OMB Number: 1660-0009.

Form Titles and Numbers: FEMA Form 010-0-13, Request for Presidential Disaster Declaration Major Disaster or Emergency.

Abstract: When a disaster occurs in a State, the Governor of the State or the Acting Governor in his/her absence, may request a major disaster declaration or an emergency declaration. The Governor should submit the request to the President through the appropriate Regional Administrator to ensure prompt acknowledgement and processing. The information obtained by joint Federal, State, and local preliminary damage assessments will be analyzed by FEMA regional senior level staff. The regional summary and the regional analysis and recommendation will include a discussion of State and local resources and capabilities, and other assistance available to meet the disaster related needs. The Administrator of FEMA provides a recommendation to the President and also provides a copy of the Governor's request. In the event the information required by law is not contained in the request, the Governor's request cannot be processed and forwarded to the White House. In the event the Governor's request for a major disaster declaration or an emergency declaration is not granted, the Governor may appeal the decision.

Affected Public: State, local or Tribal Government.

Number of Respondents: 56.

Number of Responses: 336.

Estimated Total Annual Burden Hours: 11,088 hours.

Table A.12—Estimated Annualized Burden Hours and Costs
Type of respondent | Form name/form No. | Number of respondents | Number of responses per respondent | Average burden per response (in hours) | Total annual burden (in hours) | Average hourly wage rate | Total annual respondent cost
State, Local or Tribal Government | FEMA Form 010-0-13, Request for Presidential Disaster Declaration Major Disaster or Emergency | 56 | 6 | 9 | 3,024 | $65.67 | $198,586.08
State, Local or Tribal Government | Initial Data Gathering for Governor's Request/No Form | 56 | 6 | 24 | 8,064 | 33.64 | 271,272.96
Total |  | 56 |  |  | 11,088 |  | 469,859.04
Note: The “Avg. Hourly Wage Rate” for each respondent includes a 1.4 multiplier to reflect a fully-loaded wage rate.

Estimated Cost: The estimated annual cost to respondents for the hour burden is $469,859.04. There are no annual costs to respondents operations and maintenance costs for technical services. There is no annual start-up or capital costs. The cost to the Federal Government is $1,517,483.52.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 31, 2012.
Charlene D. Myrthil,
Director, Records Management Division, Mission Support Bureau, Federal Emergency Management Agency, Department of Homeland Security.

[FR Doc. 2012-19236 Filed 8-6-12; 8:45 am]

BILLING CODE 9111-23-P